DEPARTMENT OF TRANSPORTATION

Federal Highway Administration

Notice of Final Federal Agency Actions on Proposed Highways in Washington

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1)-(2). The actions relate to a proposed highway project, Yakima Grade Separation: Lincoln Avenue and B Street project, in Yakima County in the State of Washington. Those actions grant licenses, permits, and approvals for the project.

DATES: By this notice, the FHWA is advising the public of final agency actions subject to 23 U.S.C. 139(l)(1). A claim seeking judicial review of the Federal agency actions on the highway project will be barred unless the claim is filed on or before October 22, 2007. If the Federal law that authorizes judicial review of a claim provides a time period of less than 180 days for filing such claim, then that shorter time period still applies.

FOR FURTHER INFORMATION CONTACT: For FHWA: Bryan L. Dillon, South Central Region Area Engineer, Federal Highway Administration, 711 S. Capitol Way, Suite 501, Olympia, Washington, 98501; telephone: (360) 753-9556; e-mail: Bryan.Dillon@fhwa.dot.gov. The FHWA Washington Division Office's regular office hours are between 8 a.m. and 4:30 p.m. (Pacific Time). For Washington State: Roger Arms, Local Programs Engineer, Washington State Department of Transportation, P.O. Box 12560, Yakima, Washington, 98909-2560; telephone: (509) 577-1780; e-mail: ArmsR@wsdot.wa.gov. The Washington State Department of Transportation's regular office hours are between 8 a.m. and 5 p.m. (Pacific Time).

SUPPLEMENTARY INFORMATION: Notice is hereby given that the FHWA and other Federal agencies have taken final agency actions subject to 23 U.S.C. 139(l)(1) by issuing licenses, permits, and approvals for the following highway project in the State of Washington: Yakima Grade Separation: Lincoln Avenue and B Street Project in Yakima County, Washington. The purpose of the Yakima Grade Separation project is to improve freight mobility through the city of Yakima by creating grade separation of the Burlington Northern Santa Fe (BNSF) railroad tracks at the Lincoln Avenue and Martin Luther King Boulevard, formerly known as B Street, crossings in downtown Yakima, and includes the realignment of Front Street. The project will be constructed over no more than two years, and the FHWA project reference number is 000S062. The actions by the Federal agencies on this project, and the laws under which such actions were taken, are described in the Environmental Assessment (EA) for the project, approved on April 11, 2006, in the FHWA Finding of No Significant Impact (FONSI) issued August 17, 2006, and in other documents in the FHWA project files. The EA, FONSI, and other project records are available by contacting FHWA or the Washington State Department of Transportation at the addresses provided above. The EA and FONSI can be viewed and downloaded form the project Web site at http://www.wsdot.wa.gov/TA/Operations/Environmental/Yakima_EA.pdf or viewed at public libraries in the project area.

This notice applies to all Federal agency decisions as of the issuance date of this notice and all laws under which such actions were taken, including but not limited to:

1. General: National Environmental Policy Act [42 U.S.C. 4321-4351]; Federal-Aid Highway Act [23 U.S.C. 109 and 23 U.S.C. 128].

2. Air: Clean Air Act, as amended [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536]; Anadromous Fish Conservation Act [16 U.S.C. 757(a)-757(g)]; Fish and Wildlife Coordination Act [16 U.S.C. 661-667(d)]; Magnuson-Stevenson Fishery Conservation and Management Act of 1976, as amended [16 U.S.C. 1801 et seq.].

5. Historic and Cultural Resources: Section 106 of the National Historic Preservation Act of 1966, as amended [16 U.S.C. 470(f) et seq.]; Archaeological Resources Protection Act of 1977 [16 U.S.C. 470(aa)-470(ll)]; Archaeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act [7 U.S.C. 4201-4209]; the Uniform Relocation Assistance and Real Property Acquisition Policies Act of 1970, as amended [42 U.S.C. 61].

7. Wetlands and Water Resources: Clean Water Act, 33 U.S.C. 1251-1377 (Section 404, Section 401, Section 319) [33 U.S.C. 1251-1377]; Coastal Zone Management Act [16 U.S.C. 1451-1465]; Land and Water Conservation Fund [16 U.S.C. 4601-4604]; Safe Drinking Water Act [42 U.S.C. 300(f)-300(j)(6)]; Rivers and Harbors Act of 1899 [33 U.S.C. 401-406]; TEA-21 Wetlands Mitigation [23 U.S.C. 103(b)(6)(m), 133(b)(11)]; Flood Disaster Protection Act [42 U.S.C. 4001-4128].

8. Hazardous Materials: Comprehensive Environmental Response, Compensation, and Liability Act [42 U.S.C. 9601-9675]; Superfund Amendments and Reauthorization Act of 1986 [Pub. L. 99-499]; Resource Conservation and Recovery Act [42 U.S.C. 6901-6992(k)].

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

Catalog of Federal Domestic Assistance Program Number 20.205, Highway Planning and Construction. The regulations implementing Executive Order 12372 regarding intergovernmental consultation on Federal programs and activities apply to this program.)

Authority: 23 U.S.C. 139(l)(1)

Bryan L. Dillon,
South Central Region Area Engineer, Olympia, Washington.

[FR Doc. E7-7829 Filed 4-23-07; 8:45 am]

BILLING CODE 4910-RY-P